SUSQUEHANNA RIVER BASIN COMMISSION

Commission Meeting

AGENCY: Susquehanna River Basin Commission.

ACTION: Notice.

SUMMARY: The Susquehanna River Basin Commission will hold its regular business meeting on June 16, 2016, in Lancaster, Pennsylvania. Details concerning the matters to be addressed at the business meeting are contained in the Supplementary Information section of this notice.

DATES: The meeting will be held on Thursday, June 16, 2016, at 9 a.m.

ADDRESSES: The meeting will be held at the DoubleTree Resort by Hilton Hotel Lancaster, Terrace Room, 2400 Willow Street Pike, Lancaster, PA 17602.

FOR FURTHER INFORMATION CONTACT: Jason E. Oyler, General Counsel, telephone: (717) 238-0423, ext. 1312; fax: (717) 238-2436.

SUPPLEMENTARY INFORMATION: The business meeting will include actions or presentations on the following items: (1) Informational presentation of interest to the Lower Susquehanna Subbasin area; (2) election of officers for FY2017; (3) the proposed Water Resources Program for fiscal years 2017 and 2018; (4) amendment of the Comprehensive Plan for the Water Resources of the Susquehanna River Basin; (5) the proposed FY2017 Regulatory Program Fee Schedule; (6) adoption of a preliminary FY2018 budget; (7) ratification/approval of contracts/grants; (8) consideration to change the name of the Compliance Reserve Fund and amend said policy; (9) a proposed guidance for expiring project approvals; (10) a proposed guidance for terminating review of a project application; (11) regulatory compliance matter for New Enterprise Stone & Lime Co., Inc.; and (12) Regulatory Program projects.

Projects, the fee schedule, the guidance documents for expiring project approvals and terminating review of a project application, and amendments to the Comprehensive Plan listed for Commission action are those that were the subject of a public hearing conducted by the Commission on May 4, 2016, and identified in the notice for such hearing, which was published in 81 FR 20046, April 6, 2016.

The public is invited to attend the Commission's business meeting. Comments on the Regulatory Program projects, the fee schedule, the guidance documents for expiring project approvals and terminating review of a project application, and amendments to the Comprehensive Plan were subject to a deadline of May 16, 2016. Written comments pertaining to other items on the agenda at the business meeting may be mailed to the Susquehanna River Basin Commission, 4423 North Front Street, Harrisburg, Pennsylvania 17110-1788, or submitted electronically through http://www.srbc.net/pubinfo/publicparticipation.htm. Such comments are due to the Commission on or before June 10, 2016. Comments will not be accepted at the business meeting noticed herein.

Authority: Pub. L. 91-575, 84 Stat. 1509 et seq., 18 CFR parts 806, 807, and 808.

Dated: May 13, 2016.
Stephanie L. Richardson,
Secretary to the Commission.

[FR Doc. 2016-11751 Filed 5-18-16; 8:45 am]

BILLING CODE 7040-01-P